DEPARTMENT OF AGRICULTURE

Grain Inspection, Packers and Stockyards Administration

Designation for the Columbus (OH), Farwell (TX), and Decatur (IN) Areas

AGENCY: Grain Inspection, Packers and Stockyards Administration, USDA.

ACTION: Notice.

SUMMARY: We are announcing designation of the following organizations to provide official services under the United States Grain Standards Act, as amended (USGSA): Columbus Grain Inspection, Inc. (Columbus); Farwell Grain Inspection, Inc. (Farwell); and Northeast Indiana Grain Inspection, Inc. (Northeast Indiana).

DATES: Effective January 1, 2008.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications will be available for public inspection at the office above during regular business hours (7 CFR 1.27(b)).

SUPPLEMENTARY INFORMATION: In the May 31, 2007, Federal Register (72 FR 30335), we requested applications for designation to provide official services in the geographic areas assigned to the official agencies named above. Applications were due by July 2, 2007.

Columbus, Farwell, and Northeast Indiana were the sole applicants for designation to provide official services in the entire area currently assigned to them, so GIPSA did not ask for additional comments on them.

We evaluated all available information regarding the designation criteria in Section 7(f)(l) of USGSA (7 U.S.C. 79(f)) and determined that Columbus, Farwell, and Northeast Indiana are able to provide official services in the geographic areas specified in May 31, 2007, Federal Register, for which they applied. These designation actions to provide official services are effective January 1, 2008, and terminate December 31, 2010, for Columbus, Farwell, and Northeast Indiana. Interested persons may obtain official services by calling the telephone numbers listed below.

Official Agency | Headquarters location and telephone | Designation start-end
Columbus | Circleville, OH—740-474-3519 Additional Location: Bucyrus, OH | 1/01/2008-12/31/2010
Farwell | Farwell, TX—806-481-9052 | 1/01/2008-12/31/2010
Northeast Indiana | Decatur, IN—337-948-0230 | 1/01/2008-12/31/2010

Section 7(f)(1) of the USGSA, authorizes GIPSA's Administrator to designate a qualified applicant to provide official services in a specified area after determining that the applicant is better able than any other applicant to provide such official services (7 U.S.C. 79(f)(1)).

Section 7(g)(1) of USGSA provides that designations of official agencies will terminate not later than three years and may be renewed according to the criteria and procedures prescribed in Section 7(f) of USGSA.

Authority: 7 U.S.C. 71-87k.

James E. Link,
Administrator, Grain Inspection, Packers and Stockyards Administration.

[FR Doc. E7-23243 Filed 11-30-07; 8:45 am]

BILLING CODE 3410-KD-P